OFFICE OF THE UNITED STATES TRADE REPRESENTATIVE

[Docket Numbers USTR-2018-0006, 2018-007, and 2018-008]

Initiation of Country Practice Reviews of India, Indonesia, and Kazakhstan

AGENCY: Office of the United States Trade Representative.

ACTION: Notice of public hearing and request for comments.

SUMMARY: The Office of the United States Trade Representative (USTR) is announcing the initiation of country practice reviews regarding compliance with the Generalized System of Preferences (GSP) eligibility criteria of India, Indonesia, and Kazakhstan. This notice includes the schedule for submission of public comments and a public hearing.

DATES: June 19, 2018: The GSP Subcommittee of the Trade Policy Staff Committee (TPSC) will convene a public hearing on the GSP country practice reviews of India, Indonesia, and Kazakhstan in Rooms 1 and 2, 1724 F Street NW, Washington, DC 20508, beginning at 10:00 a.m.

June 5, 2018 at midnight EDT: Deadline for submission of comments, pre-hearing briefs, and requests to appear at the June 19, 2018, public hearing.

July 17, 2018 at midnight EDT: Deadline for submission of post-hearing briefs.

ADDRESSES: USTR strongly prefers electronic submissions made through the Federal eRulemaking Portal: https://www.regulations.gov. Follow the instructions for submitting comments in section D below. The docket number for the India review is USTR-2018-0006. The docket number for the Indonesia review is USTR-2018-0007. The docket number for the Kazakhstan review is USTR-2018-0008. For alternatives to on-line submissions, please contact Yvonne Jamison at 202-395-3475.

FOR FURTHER INFORMATION CONTACT: Erland Herfindahl, Deputy Assistant U.S. Trade Representative for GSP at Erland_Herfindahl@ustr.eop.gov or 202-395-6364.

SUPPLEMENTARY INFORMATION:

A. Background

The GSP program provides for the duty-free treatment of designated articles when imported from beneficiary developing countries. The GSP program is authorized by Title V of the Trade Act of 1974 (19 U.S.C. 2461-2467), as amended, and is implemented in accordance with Executive Order 11888 of November 24, 1975, as modified by subsequent Executive Orders and Presidential Proclamations.

B. Initiation of a Country Practice Review of India, Indonesia, and Kazakhstan

USTR will lead a review of the eligibility of India, Indonesia, and Kazakhstan for benefits under the GSP program. These country practice reviews are undertaken on the recommendation of the TPSC pursuant to 15 CFR 2007.0(f) to determine whether the current laws and practices of India, Indonesia, and Kazakhstan meet the GSP eligibility criteria. These reviews are the result of country eligibility petitions submitted by interested stakeholders and an assessment of the 25 Asian and Pacific Island GSP beneficiary countries conducted by the GSP Subcommittee.

1. India Country Eligibility Review

The country practice review of India will focus on whether it is meeting the GSP eligibility criterion that requires a GSP beneficiary country to assure the United States that it will provide equitable and reasonable access to its market (19 U.S.C. 2462(c)(4)). USTR is accepting two petitions asserting that India is not meeting this criterion: One from the National Milk Producers Federation and the U.S. Dairy Export Council, and the other from the Advanced Medical Technology Association. In addition, through the new GSP Country Assessment process, the GSP Subcommittee identified potential concerns with India's compliance with the GSP criterion that requires a GSP beneficiary country to assure the United States that it will provide equitable and reasonable access to its market (19 U.S.C. 2462(c)(4)). As described in the India Chapter of the 2018 National Trade Estimate Report on Foreign Trade Barriers, India has implemented a wide array of trade barriers that create serious negative effects on U.S. commerce. Due to the similar nature of the issues raised in these petitions with concerns identified in the assessment process, the petitions and the self-initiated review will be combined into one overall review of India's GSP eligibility based on the GSP market access criterion.

2. Indonesia Country Eligibility Review

The country practice review of Indonesia will focus on whether it is meeting two GSP criteria: (1) The GSP criterion that requires a GSP beneficiary country to assure the United States that it will provide equitable and reasonable access to its market (19 U.S.C. 2462(c)(4)), and (2) the GSP criterion that requires a GSP beneficiary country to reduce trade-distorting investment practices and reduce or eliminate barriers to trade in services (19 U.S.C. 2462(c)(6)). As described in the Indonesia Chapter of the 2018 National Trade Estimate Report on Foreign Trade Barriers, Indonesia has implemented a wide array of trade barriers that create serious negative effects on U.S. commerce. The existing review of Indonesia's compliance with the GSP criterion related to intellectual property rights (19 U.S.C. 2462(c)(5)) is separate, and will continue.

3. Kazakhstan Country Eligibility Review

The country practice review of Kazakhstan will focus on whether it is meeting the GSP criterion requiring a GSP beneficiary country to take steps to afford internationally recognized worker rights to workers in the country (19 U.S.C. 2462(b)(2)(G)). USTR is accepting a petition filed by the American Federation of Labor and Congress of Industrial Organizations (AFL-CIO). The petition alleges that the Government of Kazakhstan actively restricts the right to form trade unions and employer associations without prior permission, prevents workers and employers from joining organizations of their own choosing, interferes in the structure and activities of worker and employer organizations, and targets labor leaders with arrests and prosecutions for exercising their rights.

C. Notice of Public Hearing

The GSP Subcommittee will hold a hearing on June 19, 2018, beginning at 10:00 a.m., to receive information regarding the country practice reviews of India, Indonesia, and Kazakhstan. The hearing will be held in Rooms 1 and 2, 1724 F Street NW, Washington, DC 20508, and will be open to the public and to the press. We will make a transcript of the hearing available on www.regulations.gov within approximately two weeks after the date of the hearing. All interested parties wishing to make an oral presentation at the hearing must submit, following the Requirements for Submissions set out below, the name, address, telephone number, and email address, if available, of the witness(es) representing their organization by midnight on June 5, 2018.

Requests to present oral testimony must be accompanied by a written brief or summary statement, in English. The GSP Subcommittee will limit oral testimony before the GSP Subcommittee to five-minute presentations that summarize or supplement information contained in briefs or statements submitted for the record. The GSP Subcommittee will accept post-hearing briefs or statements if they conform to the requirements set out below and are submitted in English, by midnight on July 17, 2018.

Parties not wishing to appear at the public hearing may submit pre-hearing and post-hearing briefs or comments by these deadlines. In order to be assured of consideration, you must submit all post-hearing briefs or statements by the July 17, 2018 deadline to the appropriate docket via www.regulations.gov:

India (market access): USTR-2018-0006

Indonesia (market access; investment and services): USTR-2018-0007

Kazakhstan (worker rights): USTR-2018-0008

However, if there are new developments or information that parties wish to share with the GSP Subcommittee after this date, the www.regulations.gov docket will remain open until a final decision is made. Post all comments, letters, or other submissions related to the appropriate docket listed above via www.regulations.gov.

D. Requirements for Submissions

All submissions in response to this notice must conform to the GSP regulations set forth at 15 CFR part 2007 (https://www.ecfr.gov/cgi-bin/textidx?SID=271bd12a5ef9cae0c4c178d1131ac292&mc=true&node=pt15.3.2007&rgn=div5), except as modified below.

The GSP Subcommittee strongly encourages on-line submissions through the https://www.regulations.gov website. All submissions must be in English and must be transmitted electronically via www.regulations.gov using the appropriate docket number listed above. To make a submission via www.regulations.gov, enter the appropriate docket number on the home page and click “search”. The site will provide a search-results page listing all documents associated with the docket. Find a reference to this notice and click on the link entitled “Comment Now”. For further information on using www.regulations.gov, please consult the resources provided on the website by clicking on “How to Use Regulations.gov” on the bottom of the home page. We will not accept hand-delivered submissions.

The www.regulations.gov website allows users to provide comments by filling in a “Type Comment” field, or by attaching a document using an “Upload File” field. The GSP Subcommittee prefers that you provide submissions as an attached document. If a document is attached, please type “GSP Review of [Country]” in the “Type Comment” field. USTR prefers submissions in Microsoft Word (.doc) or Adobe Acrobat (.pdf) format. If the submission is in another file format, please indicate the name of the software application in the “Type Comment” field. File names should reflect the name of the person or entity submitting the comments. Please do not attach separate cover letters to electronic submissions; rather, include any information that might appear in a cover letter in the comments themselves. Similarly, to the extent possible, please include any exhibits, annexes, or other attachments in the same file as the comment itself, rather than submitting them as separate files. Submissions should not exceed 30 single-spaced, standard letter-size pages in 12-point type, including attachments.

For any comments submitted electronically containing business confidential information, the file name of the business confidential version should begin with the characters “BC”. Any page containing business confidential information must be clearly marked “BUSINESS CONFIDENTIAL” on the top of that page and the submission should clearly indicate, via brackets, highlighting, or other means, the specific information that is business confidential. A filer requesting business confidential treatment must certify that the information is business confidential and would not customarily be released to the public by the submitter.

Additionally, the submitter should type “Business Confidential GSP Review of [Country]” in the “Type Comment” field. Filers of submissions containing business confidential information also must submit a public version of their comments that we will place in the docket for public inspection. The file name of the public version should begin with the character “P”. The “BC” and “P” should be followed by the name of the person or entity submitting the comments. Filers submitting comments containing no business confidential information should name their file using the name of the person or entity submitting the comments.

You will receive a submission tracking number upon completion of the submissions procedure at www.regulations.gov. The tracking number is your confirmation that the submission was received into www.regulations.gov. The GSP Subcommittee is not able to provide technical assistance for the website. The GSP Subcommittee may not consider documents that are not submitted in accordance with these instructions.

As noted, the GSP Subcommittee strongly urges submitters to file comments through www.regulations.gov. You must make any alternative arrangements with Yvonne Jamison at 202-395-3475 in advance of transmitting a comment.

We will post comments in the dockets for public inspection, except business confidential information. You can view comments on the www.regulations.gov website by entering the relevant docket number in the search field on the home page.

Erland Herfindahl,
Deputy Assistant U.S. Trade Representative for the Generalized System of Preferences and Chair of the GSP Subcommittee of the Trade Policy Staff Committee, Office of the United States Trade Representative.

[FR Doc. 2018-08868 Filed 4-26-18; 8:45 am]

BILLING CODE 3290-F8-P